DEPARTMENT OF TRANSPORTATION

Federal Aviation Administration

14 CFR Part 39

[Docket No. FAA-2011-1261; Directorate Identifier 2011-NE-38-AD; Amendment 39-16875; AD 2011-24-11]

RIN 2120-AA64

Airworthiness Directives; Honeywell International Inc. Turbofan Engines

AGENCY: Federal Aviation Administration (FAA), DOT.

ACTION: Final rule; request for comments.

SUMMARY: We are adopting a new airworthiness directive (AD) for certain Honeywell International Inc. ALF502L-2C, ALF502R-3, ALF502R-3A, ALF502R-5, LF507-1F, and LF507-IH turbofan engines. This AD requires removing from service certain second stage high pressure compressor (HPC2) discs. This AD was prompted by a report of cracks found in an HPC2 disc during routine inspection. We are issuing this AD to prevent the affected discs from fracturing before reaching the currently published life limit. A disc fracture could result in an uncontained failure of the disc and damage to the airplane.

DATES: This AD is effective December 14, 2011.

The Director of the Federal Register approved the incorporation by reference of a certain publication listed in the AD as of December 14, 2011.

We must receive comments on this AD by January 13, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Honeywell International Inc., P.O. Box 52181, Phoenix, AZ 85072-2181, phone: (800) 601-3099; Web site: http://portal.honeywell.com/wps/portal/aero. You may review copies of the referenced service information at the FAA, Engine & Propeller Directorate, 12 New England Executive Park, Burlington, MA. For information on the availability of this material at the FAA, call (781) 238-7125.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: (800) 647-5527) is in the ADDRESSES section. Comments will be available in the AD docket shortly after receipt.

FOR FURTHER INFORMATION CONTACT: Robert Baitoo, Aerospace Engineer, Los Angeles Aircraft Certification Office, FAA, 3960 Paramount Blvd., Lakewood, CA 90712; phone: (562) 627-5245; fax: (562) 627-5210; email: robert.baitoo@faa.gov.

SUPPLEMENTARY INFORMATION:

Discussion

During a routine inspection, cracks were found in a low-time HPC2 disc, part number (P/N) 2-101-332-12. Analysis has revealed that the cracks initiated during the forging process of a certain material ingot. Honeywell International Inc. has identified a suspect population of 29 HPC2 discs, by serial number (S/N), that were made from the affected material ingot. This condition, if not corrected, could result in an uncontained failure of the disc and damage to the airplane.

Relevant Service Information

We reviewed Honeywell International Inc. Service Bulletin (SB) No. ALF/LF-72-1113, dated September 16, 2011. The SB lists the affected HPC2 discs by P/N and S/N, and describes procedures for removing them from service.

FAA's Determination

We are issuing this AD because we evaluated all the relevant information and determined the unsafe condition described previously is likely to exist or develop in other products of the same type design.

AD Requirements

This AD requires accomplishing the actions specified in the service information described previously.

FAA's Justification and Determination of the Effective Date

An unsafe condition exists that requires the immediate adoption of this AD. The FAA has found that the risk to the flying public justifies waiving notice and comment prior to adoption of this rule because there are no U.S. operators of airplanes with Honeywell International Inc. ALF502L-2C, ALF502R-3, ALF502R-3A, ALF502R-5, LF507-1F, and LF507-IH turbofan engines, with an affected HPC2 disc installed. Therefore, we find that notice and opportunity for prior public comment are unnecessary and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-1261 and Directorate Identifier 2011-NE-38-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects no Honeywell International Inc. ALF502L-2C, ALF502R-3, ALF502R-3A, ALF502R-5, LF507-1F, and LF507-IH turbofan engines installed on airplanes of U.S. registry. Therefore, we estimate the total cost of the AD to U.S. operators to be $0.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-24-11 Honeywell International Inc. Turbofan Engines: Amendment 39-16875; Docket No. FAA-2011-1261; Directorate Identifier 2011-NE-38-AD.

(a) Effective Date

This AD is effective December 14, 2011.

(b) Affected ADs

None.

(c) Applicability

This AD applies to Honeywell International Inc. ALF502L-2C, ALF502R-3, ALF502R-3A, ALF502R-5, LF507-1F, and LF507-IH turbofan engines with any of the second stage high pressure compressor (HPC2) discs, part number (P/N) 2-101-332-12, serial numbers (S/N) listed in Table 2 of Honeywell International Inc. Service Bulletin (SB) No. ALF/LF-72-1113, dated September 16, 2011, installed.

(d) Unsafe Condition

This AD was prompted by a report of cracks found in an HPC2 disc during routine inspection. We are issuing this AD to prevent the affected discs from fracturing before reaching the currently published life limit. A disc fracture could result in an uncontained failure of the disc and damage to the airplane.

(e) Compliance

Comply with this AD before accumulating 4,500 cycles-since-new on the affected HPC2 disc, or before exceeding 7 years after the effective date of this AD, whichever occurs first, unless already done.

(f) Removal of Affected HPC2 Discs

Remove from service HPC2 discs, P/N 2-101-332-12, S/Ns listed in Table 2 of Honeywell International Inc. SB No. ALF/LF-72-1113, dated September 16, 2011.

(g) Alternative Methods of Compliance (AMOCs)

The Manager, Los Angeles Aircraft Certification Office, FAA, has the authority to approve AMOCs for this AD, if requested using the procedures found in 14 CFR 39.19.

(h) Related Information

For more information about this AD, contact Robert Baitoo, Aerospace Engineer, Los Angeles Aircraft Certification Office, FAA, 3960 Paramount Blvd., Lakewood, CA 90712; phone: (562) 627-5245; fax: (562) 627-5210; email: robert.baitoo@faa.gov.

(i) Material Incorporated by Reference

You must use the following service information to do the actions required by this AD, unless the AD specifies otherwise. The Director of the Federal Register approved the incorporation by reference (IBR) under 5 U.S.C. 552(a) and 1 CFR part 51 of the following service information on the date specified:

(1) Honeywell International Inc. Service Bulletin No. ALF/LF-72-1113, dated September 16, 2011, approved for IBR December 14, 2011.

(2) For service information identified in this AD, contact Honeywell International Inc., P.O. Box 52181, Phoenix, AZ 85072-2181, phone: (800) 601-3099; Web site: http://portal.honeywell.com/wps/portal/aero.

(3) You may review copies of the service information at the FAA, Engine & Propeller Directorate, 12 New England Executive Park, Burlington, MA. For information on the availability of this material at the FAA, call (781) 238-7125.

(4) You may also review copies of the service information that is incorporated by reference at the National Archives and Records Administration (NARA). For information on the availability of this material at an NARA facility, call (202) 741-6030, or go to http://www.archives.gov/federal_register/code_of_federal_regulations/ibr_locations.html.

Issued in Burlington, Massachusetts, on November 15, 2011.
Peter A. White,
Manager, Engine & Propeller Directorate, Aircraft Certification Service.

[FR Doc. 2011-30575 Filed 11-28-11; 8:45 am]

BILLING CODE 4910-13-P